DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 29, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Partnerships and Public Engagement

Title: USDA/1890 National Scholars Program Application.

OMB Control Number: 0503-0015.

Summary of Collection: The USDA/1890 National Scholars Program is a joint human capital initiative between the U.S. Department of Agriculture (USDA) and the 1890 Historically Black Land-Grant Universities. Through the 1890 National Scholars Program, USDA offers scholarships to high school and college students who are seeking a bachelor's degree in the fields of agriculture, food, science, or natural resource sciences and related disciplines at one of the established 1890 Land-Grant Universities. A completed application is required for graduating high school students, college freshman and sophomores to be considered for the scholarship.

Need and Use of the Information: The first section of the high school application requests the applicant to include biographical information (i.e., name, address, age, etc.); educational background information (i.e., grade point average, test scores, name of university(ies) interested in attending, and desired major); and extracurricular activities. The second section of the application is completed by the student's guidance counselor and requests information pertaining to the student's academic status, grade point average, and test scores. The last section of the application, which is to be completed by a teacher, provides information assessing the applicant's interests, habits, and potential.

The first section of the college application requests the applicant to include biographical information (i.e., name, address, age, etc.); educational background information) i.e., grade point average, name of university currently attending and declared major); activities. The second section of the application requires the submission of a transcript; essay containing 500-800 words; two letters of recommendation submitted on behalf of the applicant. There are no sections included in the application that the letter writing officials will need to complete.

The information will be used to assist the selecting agencies in their process of identifying potential recipients of the scholarship. The program would not be able to function consistently without this annual collection.

Description of Respondents: Individuals or households.

Number of Respondents: 2,000.

Frequency of Responses: Reporting: Annually.

Total Burden Hours: 4,000.

Dated: March 24, 2022.
Ruth Brown,
Departmental Information Collection Clearance Officer.

[FR Doc. 2022-06623 Filed 3-29-22; 8:45 am]

BILLING CODE 3412-88-P